DEPARTMENT OF HEALTH AND HUMAN SERVICES

Administration for Children and Families

Proposed Information Collection Activity; Healthy Marriage and Responsible Fatherhood Performance Measures and Additional Data Collection (Office of Management and Budget #0970-0566)

AGENCY: Office of Planning, Research, and Evaluation, Administration for Children and Families, Department of Health and Human Services.

ACTION: Request for public comments.

SUMMARY: The Administration for Children and Families (ACF), Office of Family Assistance (OFA), is requesting an extension with changes to its approved collection and reporting of performance measures about program operations, services, and clients served through the Healthy Marriage (HM) and Responsible Fatherhood (RF) grant programs. In an effort to gain a greater understanding of how HMRF programs influence program participants and staff at an individual level, ACF proposes to add one open field to the quarterly narrative reports to capture information about the experiences of HMRF participants and/or staff. ACF is requesting to extend approval, with the implementation of this change, for 3 years.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: ACF proposes to continue collecting a set of Office of Management and Budget (OMB)-approved performance measures from all HMRF award recipients.

The HMRF performance measures collect standardized information in the following areas:

• Applicant characteristics;

• Program operations;

• Service delivery; and

• Participant outcomes:

○ Entrance survey, with five versions: (1) HM Program Entrance Survey for Adult-Focused Programs; (2) HM Program Entrance Survey for Youth-Focused Programs; (3) RF Program Entrance Survey for Community-Based Fathers; (4) RF Program Entrance Survey for Community-Based Mothers; and (5) RF Program Entrance Survey for Reentering Fathers.

○ Exit survey, with five versions: (1) HM Program Exit Survey for Adult-Focused Programs; (2) HM Program Exit Survey for Youth-Focused Programs; (3) RF Program Exit Survey for Community-Based Fathers; (4) RF Program Exit Survey for Community-Based Mothers; and (5) RF Program Exit Survey for Reentering Fathers.

The measures were developed in 2014 after extensive review of the research literature and recipients' past measures. They were revised in 2020 based on a targeted analysis of existing measures, feedback from key audiences, and discussions with ACF staff and the 2015 cohort of recipients. OMB approved these revised measures in 2021 and has approved a handful of non-substantive changes since then.

ACF also proposes to continue the OMB-approved quarterly reporting on the following measures, with minor changes as described:

• Semi-annual Performance Progress Report (PPR), with two versions: (1) Performance Progress Report for HM Programs, and (2) Performance Progress Report for RF Programs; and

• Quarterly Performance Report (QPR), with two versions: (1) Quarterly Performance Progress Report for HM Programs, and (2) Quarterly Performance Progress Report for RF Programs. ACF proposes to add a new text box to the QPRs to gather qualitative narratives of the experiences of HMRF participants and/or staff. This information will help build ACF's understanding of how HMRF programs influence program participants and staff at an individual level.

ACF provides recipients with a web-based performance measures data collection system called nFORM 2.0 (Information, Family Outcomes, Reporting, and Management) to improve the efficiency of data collection and reporting and the quality of data. This system allows for streamlined and standardized submission of recipient performance data through regular progress reports and supports recipient-led and federal research projects.

ACF also proposes to continue the OMB-approved requirement for recipients to document their continuous quality improvement (CQI) planning and implementation using a CQI plan template that is completed outside of the nFORM system.

Respondents: Respondents include HM and RF award recipient staff and program applicants and participants (participants are called “clients”).

Annual Burden Estimates: The estimated number of respondents for each instrument has been adjusted to reflect experiences in the field to date. There is no change to the average estimated time per response of any instrument.

Instrument | Respondent | Number of respondents (total over request period) | Number of responses per respondent (total over request period) | Avg. burden per response (in hours) | Total burden (in hours) | Annual burden (in hours)
1: Applicant Characteristics | Program applicants | 150,000 | 1 | 0.25 | 37,500 | 12,500
| Program staff | 330 | 455 | 0.10 | 15,015 | 5,005
2: Program Operations | Program staff | 110 | 12 | 0.32 | 422 | 141
3: Service Delivery Data | Program staff | 1,650 | 86 | 0.50 | 70,950 | 23,650
4: Entrance and Exit Surveys | Program clients (entrance) | 141,498 | 1 | 0.42 | 59,429 | 19,810
| Program clients (exit) | 94,734 | 1 | 0.42 | 39,788 | 13,263
| Program staff (entrance and exit on paper) | 220 | 351 | 0.10 | 7,722 | 2,574
5: Semi-annual Performance Progress Report (PPR) | Program staff | 110 | 6 | 3 | 1,980 | 660
6: Quarterly Performance Report (QPR) | Program staff | 110 | 6 | 1 | 660 | 220
7: CQI Plan | Program staff | 110 | 3 | 4 | 1,320 | 440

Estimated Total Annual Burden Hours: 78,263.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 403. [42 U.S.C. 603].

Mary B. Jones,
ACF/OPRE Certifying Officer.

[FR Doc. 2023-25720 Filed 11-20-23; 8:45 am]

BILLING CODE 4184-73-P